NUCLEAR REGULATORY COMMISSION

10 CFR Part 37

[NRC-2010-0194]

RIN 3150-AI12

Implementation Guidance for Physical Protection of Byproduct Material; Category 1 and Category 2 Quantities of Radioactive Material

AGENCY: Nuclear Regulatory Commission.

ACTION: Notice of availability of draft guidance for public comment.

SUMMARY: The U. S. Nuclear Regulatory Commission (NRC) is proposing to amend its regulations to establish security requirements for the use and transport of category 1 and category 2 quantities of radioactive material. The NRC has prepared draft guidance to address implementation of the proposed regulations. This notice is announcing the availability of the draft implementation guidance document for public comment.

DATES: Submit comments by November 12, 2010. Comments received after this date will be considered if it is practical to do so, but the NRC is able to assure consideration only for comments received on or before this date.

ADDRESSES: Please include Docket ID NRC-2010-0194 in the subject line of your comments. For instructions on accessing documents related to this action, see Section I, “Submitting Comments and Accessing Information” in the SUPPLEMENTARY INFORMATION section of this document. You may submit comments by any one of the following methods.

Federal Rulemaking Web Site: Go to http://www.regulations.gov and search for documents filed under Docket ID NRC-2010-0194. Address questions about NRC dockets to Carol Gallagher, telephone (301) 492-3668; e-mail Carol.Gallagher@nrc.gov.

Mail comments to: Cindy Bladey, Chief, Rules, Announcements, and Directives Branch (RADB), Office of Administration, Mail Stop: TWB-05-B01M, U.S. Nuclear Regulatory Commission, Washington, DC 20555-0001.

Fax comments to: RADB at (301) 492-3446.

FOR FURTHER INFORMATION CONTACT: Paul Goldberg, Office of Federal and State Materials and Environmental Management Programs, U.S. Nuclear Regulatory Commission, Washington, DC 20555-0001, telephone (301) 415-7842, e-mail Paul.Goldberg@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee, publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The draft Part 37 implementation guidance is available electronically under ADAMS Accession Number ML101470684.

Federal Rulemaking Web Site: Public comments and supporting materials related to the implementation guidance, including the draft implementation guidance, can be found at http://www.regulations.gov by searching on Docket ID NRC-2010-0194. Documents related to the proposed rule can be found by searching on Docket ID NRC-2008-0120.

Discussion

The NRC has recently published a proposed rule that would place the security requirements for use of category 1 and category 2 quantities of radioactive material into a new part 37 of title 10 of the Code of Federal Regulations. The proposed rule was published on June 15, 2010 (75 FR 33902), and the public comment period runs through October 13, 2010. Documents related to the proposed rule can be found at http://www.regulations.gov by searching on Docket ID NRC-2008-0120.

In conjunction with the proposed rule, the NRC has developed implementation guidance. The implementation document provides guidance to a licensee or applicant for implementation of proposed 10 CFR part 37, “Physical Protection of Byproduct Material,” specifically category 1 and category 2 quantities of radioactive material. It is intended for use by applicants, licensees, Agreement States, and NRC staff. The document describes methods acceptable to the NRC staff for implementing proposed 10 CFR part 37. The approaches and methods described in the document are provided for information only. Methods and solutions different from those described in the document are acceptable if they meet the requirements in proposed 10 CFR part 37. The guidance is provided in the form of questions and answers on the provisions of the proposed rule. The draft implementation guidance document for proposed 10 CFR part 37 is available electronically under ADAMS Accession Number ML101470684, and can also be found at http://www.regulations.gov by searching on Docket ID: NRC-2010-0194.

At this time, the NRC is announcing the availability for public comment of “Implementation Guidance for 10 CFR part 37 Physical Protection of Byproduct Material, Category 1 and Category 2 Quantities of Radioactive Material.” The document provides guidance on implementing the provisions of proposed 10 CFR part 37, “Physical Protection of Byproduct Material.” The NRC is planning to hold two public meetings to obtain public input on the draft implementation guidance in September 2010. Information on these meetings will be posted on http://www.regulations.gov under Docket ID NRC-2010-0194.

Dated at Rockville, Maryland, this 30th day of June 2010.
For the Nuclear Regulatory Commission.
Andrew Mauer,
Chief, Source Management and Protection Branch, Division of Materials Safety and State Agreements, Office of Federal and State Materials and Environmental Management Programs.

[FR Doc. 2010-17126 Filed 7-13-10; 8:45 am]

BILLING CODE 7590-01-P